DEPARTMENT OF COMMERCE

National Oceanic and Atmospheric Administration

RIN 0648-XP34

Fisheries in the Western Pacific; Amended Marine Conservation Plan for Pacific Insular Areas; Northern Mariana Islands

AGENCY: National Marine Fisheries Service (NMFS), National Oceanic and Atmospheric Administration (NOAA), Commerce.

ACTION: Notice of agency decision.

SUMMARY: NMFS announces the approval of an amended marine conservation plan (MCP) for the Northern Mariana Islands.

DATES: This agency decision is effective October 6, 2008, through October 6, 2011.

ADDRESSES: Copies of the MCP are available from the Western Pacific Fishery Management Council (Council), 1164 Bishop St., Suite 1400, Honolulu, HI 96813, tel 808-522-8220, fax 808-522-8226.

FOR FURTHER INFORMATION CONTACT: Jarad Makaiau, Sustainable Fisheries, NMFS Pacific Islands Regional Office, at 808-944-2108.

SUPPLEMENTARY INFORMATION: Under Section 204(e)(1)(A)of the Magnuson-Stevens Fishery Conservation and Management Act (Magnuson-Stevens Act), the Secretary of State, with the concurrence of the Secretary of Commerce (Secretary) and in consultation with the Council, may negotiate and enter into a Pacific Insular Area fishery agreement (PIAFA) to allow foreign fishing within waters of the U.S. Exclusive Economic Zone (EEZ) adjacent to American Samoa, Guam, or the Northern Mariana Islands, and at the request and with the concurrence of, and in consultation with, the Governor of the Pacific Insular Area to which the PIAFA applies. Section 204(e)(4) of the Magnuson-Stevens Act requires that prior to entering into a PIAFA, the appropriate Governor and the Council shall develop a three-year MCP containing detailing the uses for funds to be collected by the Secretary under the PIAFA.

Any payments received under a PIAFA shall be deposited into the United States Treasury and then covered over to the Treasury of the Pacific Insular Area for which funds were collected. In the case of violations by foreign fishing vessels occurring within the EEZ off any Pacific Insular Area, any amount received by the Secretary which is attributable to fines and penalties imposed under the Magnuson-Stevens Act, including such sums collected from the forfeiture and disposition or sale of property seized subject to its authority, after payment of direct costs of the enforcement action to all entities involved in such action, shall be deposited into the Treasury of the Pacific Insular Area adjacent to the EEZ in which the violation occurred, to be used for fisheries enforcement and for implementation of a MCP. The MCP to be approved by the Secretary must be consistent with the Council's fishery management plans, identify conservation and management objectives (including criteria for determining when such objectives have been met), and prioritize planned marine conservation projects.

In June 2007, the Council approved an MCP for the Commonwealth of the Northern Mariana Islands (CNMI) and recommended its submission to the Secretary for approval. NMFS, designee of the Secretary, received the MCP on March 10, 2008. Following review and revision of the MCP, the Department of Lands and Natural Resources, CNMI, submitted the completed MCP on behalf of the Governor to NMFS on September 23, 2008. That MCP, dated June 2007, satisfied the requirements of MSA Section 204(e), and was approved for the three-year period October 6, 2008, through October 6, 2011 (73 FR 61020, October 15, 2008).

At its 144th meeting in March 2009, the Council approved an amended MCP for the CNMI. On April 9, 2009, the Governor of the CNMI submitted the amended MCP, dated March 2009. The March 2009 document revises the objective related to domestic fisheries development, and the prioritization of projects. The amendments are aimed at further promoting the development and enhancing the economic viability of CNMI fisheries.

The amended MCP contains 12 objectives, listed below, which are consistent with the Council's five existing fishery management plans:

1. Data collection and reporting;

2. Resource assessment and monitoring;

3. Incidental catch, bycatch, and protected species interaction;

4. Habitat assessment and monitoring;

5. Management procedures;

6. Surveillance and enforcement;

7. Promote responsible domestic fisheries development to provide long term economic growth and stability and local food production;

8. Marine conservation education;

9. Public participation;

10. Regional cooperation;

11. Western Pacific demonstration projects; and

12. Performance evaluation.

The MCP identifies 22 programs or projects associated with the MCP objectives for potential funding under a PIAFA, as listed below in order of priority:

1. EEZ enforcement program;

2. Analysis of data on pelagic fishery resources;

3. Commercial harvest monitoring system;

4. Fisheries technology and education program;

5. Longline permit, reporting and quota utilization program;

6. Development of fish marketing plan that includes topics on market identification, transportation, fish products, branding and eco-labeling, and other marketing issues;

7. CNMI commercial fisheries baseline assessment;

8. Regional fisheries meeting and conferences funding assistance;

9. Enhance fishing opportunities by deploying community fish aggregation devices;

10. Vessel monitoring program;

11. Construction of cold storage, fish processing, and fish market facilities;

12. Foreign fishery observer program;

13. Establish fishery management units for the EEZ;

14. Northern islands remote fishing station project;

15. Village based aquaculture project;

16. Charter fishing economic impact study;

17. Bycatch interaction report;

18. Subsistence and recreational harvest monitoring system;

19. Recreational and subsistence fishing economic impact and use study;

20. Foreign fishery management measures;

21. Vessel pollution prevention education program; and

22. Foreign fishing revenue for the Puerto Rico dump cleanup.

This notice announces that NMFS has determined that the amended MCP for the Northern Mariana Islands satisfies the requirements of the Magnuson-Stevens Act and has approved the amended MCP for the three-year period October 6, 2008, through October 6, 2011.

Dated: May 22, 2009.
Kristen C. Koch,
Acting Director, Office of Sustainable Fisheries, National Marine Fisheries Service.

[FR Doc. E9-12553 Filed 5-28-09; 8:45 am]

BILLING CODE 3510-22-S